INTERNATIONAL TRADE COMMISSION

[Investigation No. 337-TA-662]

In the Matter of Certain Tunable Laser Chips, Assemblies, and Products Containing Same; Notice of a Commission Determination To Terminate the Investigation

AGENCY: U.S. International Trade Commission.

ACTION: Notice.

SUMMARY: Notice is hereby given that the U.S. International Trade Commission has terminated the above-captioned investigation under section 337 of the Tariff Act of 1930 (19 U.S.C. 1337).

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 19, 2008 based on a complaint filed on November 7, 2008, by JDS Uniphase Corporation (“JDSU”) of Milpitas, California. 73 FR 77839-40 (December 19, 2008). The complaint alleges violations of section 337 of the Tariff Act of 1930, as amended, 19 U.S.C. 1337, in the importation into the United States, the sale for importation, and the sale within the United States after importation of certain tunable laser chips, assemblies, and products containing same by reason of infringement of certain claims of U.S. Patent Nos. 6,658,035 and 6,687,278. The complaint named numerous respondents and further alleged that an industry in the United States exists as required by subsection (a)(2) of section 337.

On May 19, 2009, the Commission issued notice of its determination not to review an initial determination (Order No. 15) terminating the last remaining respondent on the basis of a settlement agreement. Accordingly, the Commission has determined to terminate the investigation.

The authority for the Commission's determination is contained in section 337 of the Tariff Act of 1930, as amended, 19 U.S.C. 1337, and in section 210.21(b)(2) of the Commission's Rules of Practice and Procedure, 19 CFR 210.21(b)(2).

Issued: May 29, 2009.
By order of the Commission.
Marilyn R. Abbott,
Secretary to the Commission.

[FR Doc. E9-12932 Filed 6-2-09; 8:45 am]

BILLING CODE 7020-02-P